DEPARTMENT OF ENERGY

Federal Energy Regulatory Commission

[Docket No. RP97-336-004]

Trailblazer Pipeline Company; Notice of Proposed Change in FERC Gas Tariff

May 22, 2000.

Take notice that on May 15, 2000, Trailblazer Pipeline Company (Trailblazer) tendered for filing Original Sheet No. 6A to be a part of its FERC Gas Tariff, Third Revised Volume No. 1, to be effective May 15, 2000.

Trailblazer states that the purpose of this filing is to implement a negotiated rate transaction with Enservco Energy, Inc. under Trailblazer's Rate Schedule FTS pursuant to Section 38 of the General Terms and Conditions of Trailblazer's Tariff.

Trailblazer requests waiver of the Federal Energy Regulatory Commission's (Commission) Regulations, including the 30-day notice requirement of Section 154.207, to the extent necessary to permit Original Sheet No. 6A to become effective May 15, 2000.

Trailblazer states that copies of the filing are being mailed to its customers, interested state commissions and all parties set out on the Commission's official service list in Docket No. RP97-336.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13226 Filed 5-25-00; 8:45 am]

BILLING CODE 6717-01-M